DEPARTMENT OF TRANSPORTATION

Office of the Secretary

14 CFR Part 382

Federal Aviation Administration

14 CFR Parts 1, 11, 121, 125, and 135

[Docket No.: FAA-2014-0554; Amdt. Nos. 1-69; 11-60; 121-374, 125-65, 135-133]

RIN 2120-AK32

Acceptance Criteria for Portable Oxygen Concentrators Used on Board Aircraft; Correction

AGENCY: Federal Aviation Administration (FAA) and the Office of the Secretary (OST), Department of Transportation (DOT).

ACTION: Final rule; correction.

SUMMARY: This document corrects a final rule which replaces the existing process by which the Federal Aviation Administration (Agency or FAA) approves portable oxygen concentrators (POC) for use on board aircraft in air carrier operations, commercial operations, and certain other operations using large aircraft. The FAA currently assesses each POC make and model on a case-by-case basis and if the FAA determines that a particular POC is safe for use on board an aircraft, the FAA conducts rulemaking to identify the specific POC model in an FAA regulation. The final rule replaces the current process and allows passengers to use a POC on board an aircraft if the POC satisfies certain acceptance criteria and bears a label indicating conformance with the acceptance criteria. The labeling requirement only affects POCs intended for use on board aircraft that were not previously approved for use on aircraft by the FAA. Additionally, the rulemaking will eliminate redundant operational requirements and paperwork requirements related to the physician's statement. As a result, the rulemaking will reduce burdens for POC manufacturers, passengers who use POCs while traveling, and affected aircraft operators. The final rule also made conforming amendments to the Department of Transportation's (Department or DOT) rule implementing the Air Carrier Access Act (ACAA) to require carriers to accept all POC models that meet FAA acceptance criteria as detailed in this rule.

DATES: This correction will become effective on July 5, 2016.

FOR FURTHER INFORMATION CONTACT: For technical questions concerning this action, contact DK Deaderick, 121 Air Carrier Operations Branch, Air Transportation Division, Flight Standards Service, Federal Aviation Administration, AFS-220, 800 Independence Avenue SW., Washington, DC 20591; telephone (202) 267-7480; email dk.deaderick@faa.gov. For questions regarding the Department's disability regulation (14 CFR part 382), contact Clereece Kroha, Senior Attorney, Office of Aviation Enforcement and Proceedings, Department of Transportation, 1200 New Jersey Avenue SE., Washington, DC 20590; telephone (202) 366-9041; email clereece.kroha@dot.gov.

SUPPLEMENTARY INFORMATION:

Background

On May 24, 2016, the FAA published a final rule entitled, “Acceptance Criteria for Portable Oxygen Concentrators Used On Board Aircraft” (81 FR 33098).

The final rule affects the use of POCs on board aircraft in operations conducted under title 14 of the Code of Federal Regulations (14 CFR) parts 121, 125, and 135, by replacing the existing FAA case-by-case approval process for each make and model of POC in Special Federal Aviation Regulation (SFAR) No. 106, with FAA acceptance criteria. Under SFAR No. 106, each time the FAA approves a specific model of POC for use on board aircraft, the agency updates the list of approved POCs in the SFAR.

The final rule removes SFAR No. 106 and replaces it with POC acceptance criteria and specific labeling requirements to identify POCs that conform to the acceptance criteria. POCs that conform to the final rule acceptance criteria will be allowed on board aircraft without additional FAA review and rulemaking.

As with existing requirements for FAA approval of POCs that may be used on aircraft, the final rule acceptance criteria and labeling requirement only apply to POCs intended for use on board aircraft.

However, the final rule was published with an incorrect references to AC 120-95B, when the new AC is actually AC 120-95A.

Correction

In FR Doc. 2016-11908, pages 33102, 33111, and 33113, in the Federal Register of May 24, 2016, make the following corrections:

1. On page 33102, third column, footnote 5, first line, correct “AC 120-95B” to “AC 120-95”;

2. On page 33111, in the first column, tenth line from the bottom, correct “AC 120-95B” to read as “AC 120-95A”;

3. On page 33113, in the first column, third line from the top in parenthesis, correct “AC 120-95B” to read as “AC 120-95A”;

4. On page 33113, in the second column, second paragraph, thirteenth line, correct “AC 120-95B” to read as “AC 120-95A”.

Issued under authority provided by 49 U.S.C. 106(f) in Washington, DC, on June 23, 2016.
Dale A. Bouffiou,
Acting Director, Office of Rulemaking.

[FR Doc. 2016-15770 Filed 7-1-16; 8:45 am]

BILLING CODE 4910-13-P